DEPARTMENT OF HEALTH AND HUMAN SERVICES

Health Resources and Services Administration

Advisory Committee on Heritable Disorders and Genetic Diseases in Newborns and Children; Cancellation: Change of Meeting Date

AGENCY: Health Resources and Services Administration; HHS.

ACTION: Meeting notice: cancellation and change of meeting date.

SUMMARY: The Health Resources and Services Administration published a document in the Federal Register of September 22, 2006, regarding a meeting date for the Advisory Committee on Heritable Disorders and Genetic Diseases in Newborns and Children. The meeting scheduled for November 2-3, 2006, has been cancelled.

Correction

In the Federal Register of September 22, 2006, in FR Doc. 06-8018, on page 55494, correct the “Dates and Times” section to read:

Dates and Times: December 18, 2006, 9 a.m. to 5 p.m., December 19, 2006, 8:30 a.m. to 3 p.m.

Place: Hilton Washington Hotel, Monroe Room, 1919 Connecticut Avenue, NW., Washington, DC 20009.

Dated: October 20, 2006.
Cheryl R. Dammons,
Director, Division of Policy Review and Coordination.

[FR Doc. E6-17931 Filed 10-25-06; 8:45 am]

BILLING CODE 4165-15-P